DEPARTMENT OF COMMERCE

National Institute of Standards and Technology

Termination of a Selected National Voluntary Laboratory Accreditation Program (NVLAP) Service

AGENCY: National Institute of Standards and Technology, Department of Commerce.

ACTION: Notice.

SUMMARY: The Chief of the National Institute of Standards and Technology's (NIST) National Voluntary Laboratory Accreditation Program (NVLAP) announces the termination of the Chemical Calibration: Certifiers of Spectrophotometric NIST Traceable Reference Materials (NTRMs) Program offered by NVLAP. The Chemical Calibration: Certifiers of Spectrophotometric NTRMs Program comprised laboratories that designed, prepared, characterized, certified and distributed NTRM filter reference materials.

DATES: The Chemical Calibration: Certifiers of Spectrophotometric NTRMs Program will be terminated immediately upon publication of this notice.

ADDRESSES: Chief, National Voluntary Laboratory Accreditation Program, National Institute of Standards and Technology, 100 Bureau Drive, Stop 2140, Gaithersburg, MD 20899-2140, or by email at nvlap@nist.gov.

FOR FURTHER INFORMATION CONTACT: Dana Leaman, Chief, National Voluntary Laboratory Accreditation Program, (301) 975-4016 or dana.leaman@nist.gov.

SUPPLEMENTARY INFORMATION: NIST administers NVLAP under regulations found in 15 CFR part 285. NVLAP provides an unbiased third-party evaluation and recognition of laboratory performance, as well as expert technical assistance to upgrade that performance, by accrediting calibration and testing laboratories found competent to perform specific calibrations or tests. NVLAP is comprised of a set of Laboratory Accreditation Programs (LAPs) which are established on the basis of requests and demonstrated need. Each LAP includes specific test and/or calibration standards and related methods and protocols assembled to satisfy the unique needs for accreditation in the field of testing, field of calibration, product, or service.

Under 15 CFR 285.5, the Chief of NVLAP may terminate a specific LAP when it is determined that a need no longer exists to accredit laboratories for the services covered under the scope of the LAP. A review of the Chemical Calibration: Certifiers of Spectrophotometric NTRMs Program revealed that there are zero (0) laboratories enrolled in the program. Given this, it is unnecessary and not cost effective to continue this LAP. Therefore, the Chief of NVLAP has determined that there no longer exists a need to continue this LAP.

After the comment period, the Chief of NVLAP has determined there is no public support for the continuation of the LAP. NVLAP shall no longer grant or renew accreditations under the terminated program effective upon publication of this notice.

Kevin A. Kimball,
Chief of Staff.

[FR Doc. 2018-10916 Filed 5-21-18; 8:45 am]

BILLING CODE 3510-13-P